NATIONAL AERONAUTICS AND SPACE ADMINISTRATION

48 CFR Part 1852

RIN 2700-AD49

Protection of the Florida Manatee

AGENCY: National Aeronautics and Space Administration.

ACTION: Proposed rule.

SUMMARY: NASA proposes to revise the NASA FAR Supplement (NFS) to update the Protection of the Florida Manatee clause (NFS 1852.247-71) to reflect current technical requirements and organizational points of contact in order to ensure that information essential to protecting the endangered manatee will be properly conveyed to contractors working on-site at NASA Kennedy Space Center (KSC).

DATES: Comment Date: Interested parties should submit comments on or before December 23, 2008 to be considered in formulation of the final rule.

ADDRESSES: Interested parties may submit comments to include any comments relative to the cost associated with complying with this requirement, identified by RIN number 2700-AD49, via the Federal eRulemaking Portal: http://www.regulations.gov. Follow the instructions for submitting comments. Comments may also be submitted to Bill Roets, NASA Headquarters, Office of Procurement, Contract Management Division, Washington, DC 20546. Comments may also be submitted by e-mail to william.roets-1@nasa.gov.

FOR FURTHER INFORMATION CONTACT: Bill Roets, NASA, Office of Procurement, Contract Management Division (Suite 5K77); (202) 358-4483; e-mail: william.roets-1@nasa.gov.

SUPPLEMENTARY INFORMATION:

A. Background

Under the Endangered Species Act of 1973 (Pub. L. 93-205), as amended, and the Marine Mammals Protection Act of 1972 (Pub. L. 92-522), as amended, the Florida Manatee was designated as an endangered species and the Indian River Lagoon system within and adjacent to NASA's KSC has been designated as a critical habitat for the Florida Manatee. In order to ensure compliance with these two acts, the NFS clause 1852.247-71, Protection of the Florida Manatee, was developed and implemented. This clause is required in NASA solicitations and contracts when deliveries or vessel operations, dockside work, or disassembly functions under the contract will involve the use of these waterways inhabited by the Manatees. The clause requires that contractors ensure that all employees and subcontractors are aware of the applicable Federal regulations relative to protecting the Florida Manatee while working in this critical habitat area. Contractors are also required to obtain the applicable Federal and/or state permits and notify and coordinate all water related activities at KSC with the Environmental Management Branch. NASA is proposing to revise this clause to ensure that accurate, current requirements and information essential to protecting the Florida Manatee are properly conveyed to NASA KSC contractors in a concise manner.

This is not a significant regulatory action and, therefore, is not subject to review under Section 6(b) of Executive Order 12866, Regulatory Planning and Review, dated September 30, 1993. This proposed rule is not a major rule under 5 U.S.C. 804.

B. Regulatory Flexibility Act

NASA certifies that this proposed rule will not have a significant economic impact on a substantial number of small entities within the meaning of the Regulatory Flexibility Act, 5 U.S.C. 601 et seq., because it merely updates, for clarification and currency purposes, requirements that already exist in this clause and does not impose an economic impact beyond that addressed in the current clause.

C. Paperwork Reduction Act

The Paperwork Reduction Act (Pub. L. 104-13) is not applicable because the NFS changes do not impose information collection requirements that require the approval of the Office of Management and Budget under 44 U.S.C. 3501, et seq.

List of Subjects in 48 CFR Part 1852

Government Procurement.

William P. McNally,
Assistant Administrator for Procurement.

Accordingly, 48 CFR Part 1852 is proposed to be amended as follows:

1. The authority citation for 48 CFR Part 1852 continues to read as follows:

Authority: 42 U.S.C. 2455(a), 2473(c)(1).

PART 1852—SOLICITATION PROVISIONS AND CONTRACT CLAUSES

2. Section 1852.247-71 is revised to read as follows:

§ 1852.247-71 Protection of the Florida Manatee. As prescribed in 1847.7001, insert the following clause:

PROTECTION OF THE FLORIDA MANATEE (XX/XX)

(a) Pursuant to the Endangered Species Act of 1973 (Pub. L. 93-205), as amended, and the Marine Mammals Protection Act of 1972 (Pub. L. 92-522), the Florida Manatee (Trichechus Manatus) has been designated an endangered species, and the Indian River Lagoon system within and adjacent to National Aeronautics and Space Administration's (NASA's) Kennedy Space Center (KSC) has been designated as a critical habitat of the Florida Manatee. The KSC Environmental Management Branch will advise all personnel associated with the project of the potential presence of manatees in the work area, and the need to avoid collisions and/or harassment of the manatees. Contractors shall ensure that all employees, subcontractors, and other individuals associated with this contract and who are involved in vessel operations, dockside work, and selected disassembly functions are aware of the civil and criminal penalties for harming, harassing, or killing manatees.

(b) All contractor personnel shall be responsible for complying with all applicable Federal and/or state permits (e.g. Florida Department of Environmental Protection [FDEP], St. Johns River Water Management District [WMD], Fish & Wildlife Service [FWS]) in performing water-related activities within the contract. Where no Federal and/or state permits are required for said contract, and the contract scope requires activities within waters at KSC, the Contractor shall obtain a KSC Manatee Protection Permit from the Environmental Management Branch. All conditions of Federal, state, and/or KSC regulations and permits for manatee protection shall be binding to the contract. Notification and coordination of all water related activities at KSC will be done through the Environmental Management Branch.

(c) The Contractor shall incorporate the provisions of this clause in applicable subcontracts.

(End of clause)

[FR Doc. E8-25401 Filed 10-23-08; 8:45 am]

BILLING CODE 7510-01-P